DEPARTMENT OF LABOR

Office of the Secretary

Submission for OMB Review: Comment Request

March 31, 2009.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Bureau of Labor Statistics (BLS), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension without change of a currently approved collection.

Title of Collection: Labor Market Information (LMI) Cooperative Agreement.

OMB Control Number: 1220-0079.

Affected Public: State Workforce Agencies in the 50 State Governments, the District of Columbia, Puerto Rico, Virgin Islands, and Guam.

Total Estimated Number of Respondents: 54.

Total Estimated Annual Burden Hours: 788.

Total Estimated Annual Costs Burden: $0.

Description: The LMI Cooperative Agreement (CA) includes all information needed by the State Workforce Agencies to apply for funds to assist them in operating one or more of the five LMI programs operated by the Bureau of Labor Statistics, and, once awarded, report on the status of obligation and expenditure of funds, as well as close out the Cooperative Agreement. For additional information, see related notice published at Vol. 74 FR 464 on January 6, 2009.

Darrin A. King,
Departmental Clearance Officer.

[FR Doc. E9-7617 Filed 4-3-09; 8:45 am]

BILLING CODE 4510-24-P